DEPARTMENT OF HOMELAND SECURITY

Coast Guard

[USCG-2004-18949]

Collection of Information Under Review by Office of Management and Budget (OMB): 1625-0006 (Formerly 2115-0015), Shipping Articles

AGENCY: Coast Guard, DHS.

ACTION: Request for comments.

SUMMARY: In compliance with the Paperwork Reduction Act of 1995, this request for comments announces that the Coast Guard has forwarded one Information Collection Report (ICR)—1625-0006, Shipping Articles—abstracted below, to the Office of Information and Regulatory Affairs (OIRA) of the Office of Management and Budget (OMB) for review and comment. Our ICR describes the information we seek to collect from the public. Review and comment by OIRA ensures that we impose only paperwork burdens commensurate with our performance of duties.

DATES: Please submit your comments on or before March 10, 2005.

ADDRESSES: To make sure that your comments and related material do not reach the docket [USCG-2004-18949] or OIRA more than once, please submit them by only one of the following means:

(1)(a) By mail to the Docket Management Facility, U.S. Department of Transportation (DOT), room PL-401, 400 Seventh Street SW., Washington, DC 20590-0001. (b) By mail to OIRA, 725 17th St., NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 and (b) OIRA at (202) 395-6566, or e-mail to OIRA at oira-docket@omb.eop.gov attention: Desk Officer for the Coast Guard.

(4)(a) Electronically through the Web Site for the Docket Management System at http://dms.dot.gov. (b) OIRA does not have a Web site on which you can post your comments.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICR are available through this docket on the Internet at http://dms.dot.gov, and also from Commandant (CG-611), U.S. Coast Guard Headquarters, room 6106 (Attn: Ms. Barbara Davis), 2100 Second Street, SW., Washington, DC 20593-0001. The telephone number is (202) 267-2326.

FOR FURTHER INFORMATION CONTACT: Ms. Barbara Davis, Office of Information Management, telephone (202) 267-2326 or fax (202) 267-4814, for questions on these documents; or Ms. Andrea M. Jenkins, Program Manager, Docket Operations, (202) 366-0271, for questions on the docket.

SUPPLEMENTARY INFORMATION: The Coast Guard invites comments on the proposed collection of information to determine whether the collections are necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the Information Collection Reports (ICR) addressed. Comments to DMS must contain the docket number of this request, [USCG 2004-18949]. Comments to OIRA are best assured of having their full effect if OIRA receives them on or before March 10, 2005.

Public participation and request for comments: We encourage you to participate in this request for comments by submitting comments and related materials. We will post all comments received, without change, to http://dms.dot.gov, and they will include any personal information you have provided. We have an agreement with DOT to use their Docket Management Facility. Please see the paragraph on DOT's “Privacy Act Policy” below.

Submitting comments: If you submit a comment, please include your name and address, identify the docket number for this request for comment [USCG-2004-18949], indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments

This request provides a 30-day comment period required by OIRA. The Coast Guard has already published the 60-day notice required by 44 U.S.C. 3506(c)(2) (69 FR 54301, September 8, 2004). That notice elicited one comment. The commenter noted that form CG-705A—Shipping Articles, should be revised, including an altering of the layout to a more standard size, utilizing IT (i.e. online) if possible. The Coast Guard agrees that form CG-705A is long overdue for updating and redesign. The Coast Guard will, priorities permitting, look into alternate formats of required data collection. The Coast Guard currently has other forms (.pdf format) available for download, which allow the user to complete necessary fields online and print the completed form for signature(s). A similar approach may be feasible for form CG-705A.

The Coast Guard notes that Title 46, Code of Federal Regulations, 14.207, allows shipping companies to manually or electronically prepare their own version of the form CG-705A. Although these companies creating forms require approval from the Coast Guard prior to use, they may be used in lieu of form CG-705A as long as they conform to the statutory requirements.

The Coast Guard also notes that if shipping companies elect to produce their own shipping articles form, they must be created for crewmembers as a composite. Individual shipping articles do not meet the statutory requirements.

Information Collection Request

1. Title: Shipping Articles.

OMB Control Number: 1625-0006.

Type of Request: Reinstatement, without change, of a previously approved collection for which approval has expired.

Affected Public: Individuals or companies.

Form: CG-705A.

Abstract: The information collected provides verification, identification, location and the employment record of U.S. merchant seamen to the following: (1) Federal, state and local law enforcement agencies for use in criminal or civil law enforcement purposes; (2) shipping companies; (3) labor unions; (4) seaman's next of kin; (5) whenever the disclosure of such information would be in the best interest of the seaman or his/her family.

Burden Estimates: The estimated burden is 18,000 hours a year.

Dated: February 1, 2005.
Nathaniel S. Heiner,
Acting, Assistant Commandant for Command, Control, Communications, Computers and Information Technology.

[FR Doc. 05-2312 Filed 2-7-05; 8:45 am]

BILLING CODE 4910-15-P